DEPARTMENT OF COMMERCE

National Institute of Standards and Technology

Prospective Grant of Exclusive Patent License

AGENCY: National Institute of Standards and Technology, Commerce.

ACTION: Notice of prospective grant of exclusive patent license.

SUMMARY: This is a notice in accordance with 35 U.S.C. 209(c)(1) and 37 CFR 404.7(a)(1)(i) that the National Institute of Standards and Technology (“NIST”), U.S. Department of Commerce, is contemplating the grant of an exclusive license in the United States of America, its territories, possessions and commonwealths, to NIST's interest in the invention embodied in U.S. Patent Application No. 12/820,218, titled “Magnetic Connectors For Microfluidic Applications,” NIST Docket No. 09-020 to SFC Fluidics, LLC, having a place of business at 534 W. Research Center Blvd. Suite 260, Fayetteville, AR 72701. The grant of the license would be for the field of use: Magnetic Connectors For Microfluidic Applications.

FOR FURTHER INFORMATION CONTACT: J. Terry Lynch, National Institute of Standards and Technology, Technology Partnerships Office, 100 Bureau Drive, Stop 2200, Gaithersburg, MD 20899, Phone 301-975-2691.

SUPPLEMENTARY INFORMATION: The prospective exclusive license will be royalty bearing and will comply with the terms and conditions of 35 U.S.C. 209 and 37 CFR 404.7. The prospective exclusive license may be granted unless, within thirty days from the date of this published Notice, NIST receives written evidence and argument which establish that the grant of the license would not be consistent with the requirements of 35 U.S.C. 209 and 37 CFR 404.7.

U.S. Patent Application No. 12/820,218 is owned by the U.S. government, as represented by the Secretary of Commerce. The invention comprises a first magnetic connector with at least one orifice extending therethrough and a second magnetic connector. The first and second connectors are configured to magnetically attract each other. In one aspect, the first magnetic connector is configured to sealingly engage a surface of a microfluidic chip with the second magnetic connector disposed on an opposite side of the microfluidic chip. The first magnetic connector is configured to seal with the microfluidic chip about a channel opening in the microfluidic chip and provide flow communication between the channel opening and the orifice in the first magnetic connector. In at least one other aspect, the first magnetic connector and second magnetic connector each have at least one orifice and are configured to change a flow communication there between upon a rotation of the first or second magnetic connector with respect to the other magnetic connector.

Harry S. Hertz.
Director, Baldrige Performance Excellence Program.

[FR Doc. 2010-26072 Filed 10-14-10; 8:45 am]

BILLING CODE 3510-13-P